DEPARTMENT OF DEFENSE

Department of the Army, Corps of Engineers

Intent To Prepare a Feasibility Study and Environmental Impact Statement for the Harris County Flood Control District Solutions for Advancing Floodplain Evaluation and Resilience (SAFER) Initiative, Harris County, TX

AGENCY: Corps of Engineers, Department of the Army, DoD.

ACTION: Notice of intent to prepare a draft feasibility study and environmental impact statement for the SAFER Initiative, Harris County, TX.

SUMMARY: Pursuant to the National Environmental Policy Act of 1969 (NEPA), as amended, the U.S. Army Corps of Engineers, Galveston District (USACE) intends to prepare an Environmental Impact Statement (EIS) for the “Solutions for Advancing Floodplain Evaluation and Resilience” (SAFER) Initiative. The EIS would be prepared in association with a feasibility report prepared by a Non-Federal Interest (NFI)—the Harris County Flood Control District (Flood Control District) under authority granted by section 203 of Water Resources Development Act of 1986 (WRDA 1986) (Pub. L. 99-662). The study will identify and evaluate structural and nonstructural alternatives to reduce the risk of flooding across eleven watersheds. This notice announces the USACE's intent to determine the scope of the issues to be addressed and identify the significant environmental issues (e.g., impacts to aquatic resources, terrestrial habitat, fisheries, etc.) related to the proposed action.

DATES: Public scoping comments should be submitted on or before September 25, 2025, electronically or mailed as written letters. A minimum of ten scoping meetings will be held from July to August 2025. Public scoping meeting details can be found at theSAFERstudy.org.

ADDRESSES: Submit all electronic public comments via email to: comments@theSAFERstudy.org. Written comments may be mailed to: ATTN: Mr. Danny Allen, 2000 Fort Point Road, Galveston, Texas, 77550.

FOR FURTHER INFORMATION CONTACT: Questions regarding the proposed Draft EIS can be addressed by contacting Mr. Danny Allen by phone at 512-461-6579, or by email at Daniel.Allen@usace.army.mil.

SUPPLEMENTARY INFORMATION:

1. Authority. The SAFER initiative is authorized under Section 203 of WRDA 1986, (Pub. L. 99-662), as amended by Section 1014(a) of the Water Resources Reform and Development Act (WRRDA) of 2014 (Pub. L. 113-121) which authorizes the NFI to perform feasibility studies (FS) of proposed water resources development projects for submission directly to the Secretary of the Army with USACE providing technical guidance and conducting inherently governmental activities. Once submitted, the Assistant Secretary of the Army for Civil Works (ASA(CW)) evaluates the FS and prepares a report for congressional committees that describes whether the project is feasible, including recommendations concerning project design or conditions for construction. The FS phase is 100% funded by the NFI.

2. Background. The potential project area covers 11 watersheds located in Harris County, within the Harris County Flood Control District's jurisdictional boundary. The Harris County Flood Control District is a special purpose district created by the Texas Legislature in 1937 and governed by Harris County Commissioners Court. It was created in response to devastating floods that struck the region in 1929 and 1935. Harris County continues to experience major flood events, with the most significant occurring during Hurricane Harvey in 2017. These storm events cause significant flood damage, including the loss of life, coupled with projected increases in precipitation patterns and the potential for flooding events in the future, warrant this flood risk management feasibility study. The Flood Control District, acting as the NFI, is undertaking this study to evaluate flood risk management alternatives covering Brays Bayou, Buffalo Bayou, Clear Creek, Cypress Creek, Greens Bayou, Halls Bayou, Hunting Bayou, Little Cypress Creek, Sims Bayou, White Oak Bayou, and Vince Bayou watersheds.

3. Alternatives. The study will evaluate structural and nonstructural alternatives that could reduce flood risk and address study objectives. A no action alternative will also be considered. A number of measures will be considered including but not limited to: channel improvements, deep stormwater tunnels, bypass/diversion channels, stormwater detention basins, natural and nature-based features, and nonstructural measures. The study will evaluate potential benefits and impacts of the array of alternatives including reasonably foreseeable effects to the human and natural environments that balance the interests of flood risk management and environmental quality.

4. Public Participation. Scoping completed prior to and after publication of this NOI will be used to develop the EIS. The scoping comment period will begin on June 27, 2025 and will end 90 days after publication of this notice. All comments received during the scoping period are being used to identify additional measures and alternatives, significant resources, and impacts that should be considered in the EIS. Additional comments received outside the scoping period will be considered prior to the draft EIS public review period, to the extent possible. For comments that cannot be addressed prior to the public review period, the comments will be included with the public review period comments and addressed at that time. The Harris County Flood Control District in conjunction with USACE will host no less than ten Public Scoping Meetings (both virtual and in person) from July to August 2025. A Public Notice will be available on the project website: theSAFERstudy.org. Public news releases announcing the scoping period timeframe; public meeting dates, times, and locations; and where to send comments will be published in the appropriate local newspapers, on the project website, and will be distributed to the local stakeholders and known interested parties.

5. Coordination. USACE will prepare the EIS based on information and analyses provided by the Flood Control District or analyses conducted by USACE as part of a technical assistance agreement with the Flood Control District under the authority of Section 203 of WRDA 1986, as amended. Other Federal and state agencies have been invited to participate throughout the study process as Coordinating or Participating Agencies. Further coordination with environmental agencies will be conducted by USACE under the NEPA, the Fish and Wildlife Coordination Act, the Endangered Species Act, the Clean Water Act, the Clean Air Act, the National Historic Preservation Act, the Magnuson-Stevens Fishery Conservation and Management Act, and the Coastal Zone Management Act.

6. Availability of Draft EIS: The Draft EIS is estimated to be available for public review and comment during the fall of 2026. At that time, a minimum of a 45-day public review period will be provided for individuals and agencies to review and comment. USACE will notify all interested agencies, organizations, and individuals of the availability of the draft document at that time. Pertinent information about the study can be found at: theSAFERstudy.org or after publication of the draft EIS at: https://www.swg.usace.army.mil/Business-With-Us/Planning-Environmental-Branch/Documents-for-Public-Review/. To request a hard copy of the draft EIS, please contact Mr. Danny Allen by phone at 512-461-6579, or by email at Daniel.Allen@usace.army.mil. Please include your mailing address.

George H. Walter,
Brigadier General, U.S. Army, Commanding.

[FR Doc. 2025-11971 Filed 6-26-25; 8:45 am]

BILLING CODE 3720-58-P